DEPARTMENT OF COMMERCE

International Trade Administration

[A-427-801]

Ball Bearings and Parts Thereof from France: Preliminary Results of Changed-Circumstances Review

AGENCY: Import Administration, International Trade Administration, Department of Commerce.

SUMMARY: The Department of Commerce is conducting a changed-circumstances review of the antidumping duty order on ball bearings and parts thereof from France pursuant to section 751(b) of the Tariff Act of 1930, as amended. We preliminarily determine that SKF Aeroengine France S.A.S.U. is the successor-in-interest to SNFA France S.A.S.U. Interested parties are invited to comment on these preliminary results.

EFFECTIVE DATE: June 9, 2009.

FOR FURTHER INFORMATION CONTACT: Kristin Case or Richard Rimlinger, AD/CVD Operations, Office 5, Import Administration, International Trade Administration, U.S. Department of Commerce, 14th Street and Constitution Avenue, NW, Washington, DC 20230; (202) 482-3174 or (202) 482-4477, respectively.

SUPPLEMENTARY INFORMATION:

Background

The Department of Commerce (the Department) published an antidumping duty order on ball bearings and parts thereof from France on May 15, 1989. See Antidumping Duty Orders: Ball Bearings, Cylindrical Roller Bearings, Spherical Plain Bearings, and Parts Thereof From France, 54 FR 20902 (May 15, 1989). On August 11, 2000, the Department revoked the order, effective May 1, 1999, with respect to sales of ball bearings by SNFA S.A. (subsequently SNFA S.A.S.U.). See Antifriction Bearings (Other Than Tapered Roller Bearings) and Parts Thereof From France, Germany, Italy, Japan, Romania, Singapore, Sweden, and the United Kingdom; Final Results of Antidumping Duty Administrative Reviews and Revocation of Orders in Part, 65 FR 49219, 49221 (August 11, 2000).

On March 2, 2007, pursuant to a request from SNFA S.A.S.U. (SNFA), SKF France S.A., and SKF Aerospace France S.A.S., we initiated a changed-circumstances review in order to determine whether SNFA was a successor-in-interest to SKF France S.A. following SNFA's acquisition by that company or, alternatively, that post-acquisition SNFA was the successor-in-interest to the pre-acquisition SNFA. See Ball Bearings and Parts Thereof from France: Initiation of an Antidumping Duty Changed-Circumstances Review, 72 FR 9513 (March 2, 2007). During the course of the changed-circumstances review, the companies informed the Department that SNFA would be changing its name to SKF Aeroengine France S.A.S.U. (SKF Aeroengine).

On June 29, 2007, we initiated an administrative review of the antidumping duty order on ball bearings and parts thereof from France for the period May 1, 2006, through April 30, 2007, with respect to SKF France S.A. and SKF Aerospace France S.A.S. See Initiation of Antidumping and Countervailing Duty Administrative Reviews, Request for Revocation in Part and Deferral of Administrative Review, 72 FR 35690 (June 29, 2007). On October 26, 2007, we rescinded the changed-circumstances review initiated on March 2, 2007, and explained that, because we had initiated an administrative review with respect to SKF France S.A. and SKF Aerospace France S.A.S., we would address any issues that had arisen during the course of the changed-circumstances review in the context of the administrative review. See Ball Bearings and Parts Thereof from France and Italy: Rescission of Antidumping Duty Changed-Circumstances Reviews, 72 FR 60798, 60799 (October 26, 2007). In the final results of the 2006/07 administrative review, we determined that post-acquisition SNFA was the successor-in-interest to pre-acquisition SNFA and that SNFA had not changed its name to SKF Aeroengine until after the period of review. See Ball Bearings and Parts Thereof From France, Germany, Italy, Japan, and the United Kingdom: Final Results of Antidumping Duty Administrative Reviews and Rescission of Reviews in Part, 73 FR 52823 (September 11, 2008), and accompanying Issues and Decision Memorandum at Comment 12 (AFBs Final Results).

On February 6, 2009, SKF Aeroengine requested that, because the Department appeared to have left open the effect of the name change on its determination in AFBs Final Results, the Department either confirm that its determination encompassed the name change or, in the alternative, the Department initiate a changed-circumstances review to determine whether SKF Aeroengine is the successor-in-interest to SNFA. Along with its request, SKF Aeroengine provided detailed information comparing pre- and post-name change operational management, production facilities, supplier relationships, and customer bases.

On March 30, 2009, we initiated a changed-circumstances review. See Ball Bearings and Parts Thereof from France: Initiation of Antidumping Duty Changed-Circumstances Review, 74 FR 14107 (March 30, 2009) (CCR Initiation). Since the initiation of the review, no other interested party has submitted comments.

Scope of the Order

The products covered by the order are ball bearings (other than tapered roller bearings) and parts thereof. These products include all bearings that employ balls as the rolling element. Imports of these products are classified under the following categories: antifriction balls, ball bearings with integral shafts, ball bearings (including radial ball bearings) and parts thereof, and housed or mounted ball bearing units and parts thereof.

Imports of these products are classified under the following Harmonized Tariff Schedule of the United States (HTSUS) subheadings: 3926.90.45, 4016.93.00, 4016.93.10, 4016.93.50, 6909.19.5010, 8431.20.00, 8431.39.0010, 8482.10.10, 8482.10.50, 8482.80.00, 8482.91.00, 8482.99.05, 8482.99.2580, 8482.99.35, 8482.99.6595, 8483.20.40, 8483.20.80, 8483.50.8040, 8483.50.90, 8483.90.20, 8483.90.30, 8483.90.70, 8708.50.50, 8708.60.50, 8708.60.80, 8708.70.6060, 8708.70.8050, 8708.93.30, 8708.93.5000, 8708.93.6000, 8708.93.75, 8708.99.06, 8708.99.31, 8708.99.4960, 8708.99.50, 8708.99.5800, 8708.99.8080, 8803.10.00, 8803.20.00, 8803.30.00, 8803.90.30, and 8803.90.90.

Although the HTSUS item numbers above are provided for convenience and customs purposes, the written description of the scope of the order is dispositive.

Preliminary Results

In conducting this changed-circumstances review pursuant to section 751(b) of the Tariff Act of 1930, as amended (the Act), the Department has conducted a successor-in-interest analysis. In making a successor-in-interest determination, the Department examines several factors including, but not limited to, changes in the following: (1) management; (2) production facilities; (3) supplier relationships; (4) customer base. See, e.g., Brake Rotors From the People's Republic of China: Final Results of Changed Circumstances Antidumping Duty Administrative Review, 70 FR 69941 (November 18, 2005), and Notice of Final Results of Changed Circumstances Antidumping Duty Administrative Review: Polychloroprene Rubber From Japan, 67 FR 58 (January 2, 2002). While no single factor or combination of factors will necessarily provide a dispositive indication of a successor-in-interest relationship, the Department will generally consider the new company to be the successor to the previous company if the new company's resulting operation is not materially dissimilar to that of its predecessor. See Fresh and Chilled Atlantic Salmon From Norway; Final Results of Changed Circumstances Antidumping Duty Administrative Review, 64 FR 9979 (March 1, 1999), and Industrial Phosphoric Acid From Israel: Final Results of Antidumping Duty Changed Circumstances Review, 59 FR 6944 (February 14, 1994).

Thus, if the evidence demonstrates that, with respect to the production and sale of subject merchandise, the new company operates as the same business entity as the former company, the Department will accord the new company the same antidumping treatment as its predecessor. Additionally, in changed-circumstances reviews where the Department determines that a successor company is a successor-in-interest to a predecessor company that had not been subject to the order previously, the Department's practice is to apply the determination back to the date of the occurrence that prompted the changed-circumstances review. See Certain Carbon Steel Butt-Weld Pipe Fittings From Thailand: Final Results of Changed-Circumstances Antidumping Duty Review, 74 FR 8904 (February 27, 2009), and accompanying Issues and Decision Memorandum at Comment 1; see also Stainless Steel Wire Rod from Italy: Notice of Final Results of Changed Circumstances Antidumping Duty Review, 71 FR 24643, 24644 (April 26, 2006), and Certain Hot-Rolled Lead and Bismuth Carbon Steel Products From the United Kingdom: Final Results of Changed-Circumstances Antidumping and Countervailing Duty Administrative Reviews, 64 FR 66880, 66881 (November 30, 1999).

We preliminarily determine that SKF Aeroengine is the successor-in-interest to SNFA. In its February 6, 2009, submission, SKF Aeroengine provided evidence supporting its claim to be the successor-in-interest to SNFA. Specifically, SKF Aeroengine submitted its Managing Director's declaration that the September 3, 2007, name change of the company did not result in changes in management, production facilities, product mix, sales channels, supplier base, or customer base. Moreover, in the declaration, the Managing Director also stated that there are no plans to alter either the production facilities or product mix of SKF Aeroengine, there are no plans to integrate SKF Aeroengine's production with that of either SKF France S.A. or SKF Aerospace France S.A.S., and that SKF Aeroengine continues to operate as a separate and distinct business apart from the other SKF entities located in France. According to the declaration, SKF Aeroengine employs the same channels of distribution, payment terms, and delivery modes to serve the same customer base as SNFA had used. SKF Aeroengine also submitted an outline of its senior officers and board of directors both before and after its name change to demonstrate that the name change did not affect its senior management. Finally, SKF Aeroengine submitted an outline of the senior officers and boards of directors of SKF France S.A. and SKF Aerospace France S.A.S. both before and after the name change to demonstrate that the name change did not result in changes to the senior management of either SKF France S.A. or SKF Aerospace France S.A.S.

In summary, SKF Aeroengine has presented evidence to establish a prima facie case of its successorship status. The record indicates that SNFA's name change to SKF Aeroengine has not changed the operations of the company in a meaningful way. SKF Aeroengine's management, production facilities, supplier relationships, and customer base are substantially unchanged from those of SNFA. The record evidence demonstrates that the new entity operates essentially in the same manner as the predecessor company. Consequently, we preliminarily determine that SKF Aeroengine should be assigned the same antidumping-duty treatment as SNFA.

Public Comment

Case briefs from interested parties may be submitted not later than 30 days after the date of publication of this notice of preliminary results of changed-circumstances review. Rebuttal briefs from interested parties, limited to the issues raised in the case briefs, may be submitted not later than five days after the time limit for filing the case briefs or comments. Parties who submit case briefs or rebuttal briefs in this proceeding are requested to submit with each argument a statement of the issue, a summary of the arguments not exceeding five pages, and a table of statutes, regulations, and cases cited.

Interested parties who wish to request a hearing or to participate in a hearing if a hearing is requested must submit a written request to the Assistant Secretary for Import Administration within 30 days of the date of publication of this notice. See 19 CFR 351.310(c). Such requests should contain the following information: (1) the party's name, address, and telephone number; (2) the number of participants; (3) a list of issues to be discussed. Issues raised in the hearing will be limited to those discussed in the case briefs. If requested, any hearing will be held two days after the scheduled date for submission of rebuttal briefs.

The Department will publish in the Federal Register a notice of the final results of this changed-circumstances review, including the results of its analysis of issues raised in any written briefs or at the hearing if requested.

As indicated in the CCR Initiation, during the course of this changed-circumstances review we will not change any cash-deposit requirements on entries of merchandise subject to the antidumping duty order unless a change is determined to be warranted pursuant to the final results of this review.

We are issuing and publishing these preliminary results and notice in accordance with sections 751(b) and 777(i)(1) of the Act and 19 CFR 351.216.

Dated: June 2, 2009.
Ronald K. Lorentzen,
Acting Assistant Secretary for Import Administration.

[FR Doc. E9-13493 Filed 6-8-09; 8:45 am]

BILLING CODE 3510-DS-S